DEPARTMENT OF JUSTICE

Drug Enforcement Administration

[Docket No. DEA-704]

Bulk Manufacturer of Controlled Substances Application: Nanosyn Inc.

AGENCY: Drug Enforcement Administration, Justice.

ACTION: Notice of application.

SUMMARY: Nanosyn Inc. has applied to be registered as a bulk manufacturer of basic class(es) of controlled substances. Refer to Supplemental Information listed below for further drug information.

DATES: Registered bulk manufacturers of the affected basic class(es), and applicants therefore, may file written comments on or objections to the issuance of the proposed registration on or before November 9, 2020. Such persons may also file a written request for a hearing on the application on or before November 9, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on August 6, 2020, Nanosyn Inc., 3331 Industrial Drive, Suite B, Santa Rosa, California 95403-2062, applied to be registered as an bulk manufacturer of the following basic class(es) of controlled substances:

Controlled substance | Drug code | Schedule
Oxymorphone | 9652 | II
Fentanyl | 9801 | II

The company is a contract manufacturer. At the request of the company's customers, it manufactures derivatives of controlled substances in bulk form.

William T. McDermott,
Assistant Administrator.

[FR Doc. 2020-19868 Filed 9-8-20; 8:45 am]

BILLING CODE P